DEPARTMENT OF COMMERCE

International Trade Administration

University of Wisconsin-Madison Notice of Decision on Application for Duty-Free Entry of Scientific Instrument

This decision is made pursuant to Section 6(c) of the Educational, Scientific, and Cultural Materials Importation Act of 1966 (Pub. L. 89-651, 80 Stat. 897; 15 CFR part 301). Related records can be viewed between 8:30 A.M. and 5 P.M. in Room 4211, U.S. Department of Commerce, 14th and Constitution Avenue, NW., Washington, DC.

Docket Number: 01-007. Applicant: University of Wisconsin—Madison, Madison, WI 53706. Instrument: Sample Preparation Chamber with accessories. Manufacturer: ELMITEC Elektronenmikroskopie, Germany. Intended Use: See notice at 66 FR 16445, March 26, 2001.

Comments: None received. Decision: Approved. No instrument of equivalent scientific value to the foreign instrument, for such purposes as it is intended to be used, is being manufactured in the United States. Reasons: This is a compatible accessory for an existing instrument purchased for the use of the applicant. The instrument and accessory were made by the same manufacturer. The National Institutes of Health advises in its memorandum of March 12, 2001, that the accessory is pertinent to the intended uses and that it knows of no comparable domestic accessory.

We know of no domestic accessory which can be readily adapted to the existing instrument.

Gerald A. Zerdy,
Program Manager, Statutory Import Programs Staff.

[FR Doc. 01-11312 Filed 5-3-01; 8:45 am]

BILLING CODE 3510-DS-P